DEPARTMENT OF COMMERCE

International Trade Administration

[A-485-803]

Certain Cut-to-Length Carbon Steel Plate From Romania: Preliminary Results of Antidumping Duty Administrative Review and Final Partial Recision of Review

AGENCY: Import Administration, International Trade Administration, Department of Commerce.

ACTION: Notice of preliminary results of antidumping duty administrative review and final partial recision of review.

SUMMARY: In response to requests from two respondents and the petitioners, the Department of Commerce (the Department) is conducting an administrative review of the antidumping duty order on certain cut-to-length carbon steel plate from Romania. This review covers one manufacturer/exporter of the subject merchandise. The period of review (POR) is August 1, 1998 through July 31, 1999.

We preliminarily determine that Metalexportimport S.A. made no sales of subject merchandise below normal value (NV). If these preliminary results are adopted in our final results of administrative review, we will instruct the U.S. Customs Service to liquidate all of Metalexportimport's entries at an antidumping rate of zero percent. We also determine that Windmill International had no shipments during the POR. Accordingly, as of the publication of this notice, we are making the final rescission of the review with respect to this company.

Interested parties are invited to comment on these preliminary results. Parties who submit argument in this proceeding are requested to submit with the argument: (1) A statement of the issue; and (2) a brief summary of the argument.

EFFECTIVE DATE: September 7, 2000.

FOR FURTHER INFORMATION CONTACT: Fred Baker or Robert James, Enforcement Group III—Office 8, Import Administration, International Trade Administration, U.S. Department of Commerce, 14th Street and Constitution Avenue, NW., Washington, DC 20230; telephone (202) 482-2924 (Baker), (202) 482-0649 (James).

SUPPLEMENTARY INFORMATION:

Applicable Statute and Regulations

Unless otherwise indicated, all citations to the Tariff Act of 1930, as amended (the Tariff Act) are references to the provisions effective January 1, 1995, the effective date of the amendments made to the Tariff Act by the Uruguay Round Agreements Act (URAA). In addition, unless otherwise indicated, all references to the Department's regulations are to part 351 of 19 CFR (1999).

Background

The Department published an antidumping duty order on certain cut-to-length carbon steel plate from Romania on August 19, 1993 (58 FR 44167). The Department published a notice of “Opportunity to Request an Administrative Review” of the antidumping duty order for the period August 1, 1998 through July 31, 1999 on August 11, 1999 (64 FR 43649). On August 30, 1999, respondents Metalexportimport, S.A. (MEI) and Sidex S.A. (Sidex) requested that the Department conduct an administrative review. On August 31, 1999, Bethlehem Steel Corporation and U.S. Steel Group, a Unit of USX Corporation (petitioners) requested an administrative review of Windmill International PTE Ltd. of Singapore, Windmill International Romania Branch, and Windmill International Ltd. (USA) (collectively Windmill). We initiated the review with respect to MEI and Sidex on October 1, 1999 (64 FR 53318). We initiated the review with respect to Windmill on November 4, 1999 (64 FR 60161).

In response to our request for information, Windmill reported that it had no sales or shipments during the POR. See Windmill's submission of November 1, 1999. Our review of Customs import data indicated that there were no entries by Windmill during the POR. We gave parties to the proceeding the opportunity to present contrary information. We received no such information. Accordingly, we are making the final rescission of the review with respect to Windmill.

Under the Tariff Act, the Department may extend the deadline for completion of administrative reviews if it determines that it is not practicable to complete the review within the statutory time limit of 245 days. On April 13, 2000, the Department extended the time limit for the preliminary results in this case. See Cut-to-Length Carbon Steel Plate from Romania; Time Limits, 65 FR 19872.

The Department is conducting this administrative review in accordance with section 751(a) of the Tariff Act.

Scope of the Review

The products covered in this review include hot-rolled carbon steel universal mill plates (i.e., flat-rolled products rolled on four faces or in a closed box pass, of a width exceeding 150 millimeters but not exceeding 1,250 millimeters and of a thickness of not less than 4 millimeters, not in coil and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the HTS under item numbers 7208.31.0000, 7208.32.0000, 7208.33.1000, 7208.33.5000, 7208.41.0000, 7208.42.0000, 7208.43.0000, 7208.90.0000, 7210.70.3000, 7210.90.9000, 7211.11.0000, 7211.12.0000, 7211.21.0000, 7211.22.0045, 7211.90.0000, 7212.40.1000, 7212.40.5000, and 7212.50.0000. Included in this review are flat-rolled products of nonrectangular cross-section where such cross-section is achieved subsequent to the rolling process (i.e., products which have been “worked after rolling”)—for example, products which have been bevelled or rounded at the edges. Excluded from this review is grade X-70 plate.

These HTS item numbers are provided for convenience and customs purposes. The written description remains dispositive.

The POR is August 1, 1998 through July 31, 1999. This review covers sales of certain cut-to-length carbon steel plate by MEI produced by Sidex.

Separate Rates Determination

As discussed in the “Normal Value” section, below, we have determined that Romania is a non-market economy (NME). It is the Department's policy to assign all exporters of the merchandise subject to review in NME countries a single rate, unless an exporter can demonstrate an absence of government control, both in law (de jure) and in fact (de facto), with respect to exports. To establish whether an exporter is sufficiently independent of government control to be entitled to a separate rate, the Department analyzes the exporter in light of the criteria established in Final Determination of Sales at Less Than Fair Value: Sparklers from the People's Republic of China, 56 FR 20588 (May 6, 1991) (Sparklers from China), as amplified in Final Determination of Sales at Less Than Fair Value: Silicon Carbide from the People's Republic of China, 59 FR 22585 (May 2, 1994) (Silicon Carbide from China). Evidence supporting, though not requiring, a finding of de jure absence of government control over export activities includes: (1) An absence of restrictive stipulations associated with an individual exporter's business and export licenses; (2) any legislative enactments decentralizing control of companies.

Evidence relevant to a de facto absence of government control with respect to exports is based on four factors, whether the respondent: (1) Sets its own export prices independent from the government and other exporters; (2) can retain the proceeds from its export sales; (3) has the authority to negotiate and sign contracts; and (4) has autonomy from the government regarding the selection of management. See Silicon Carbide from China at 22585, 22487; see also Sparklers from China at 20588 and 20589.

MEI and Sidex both responded to the Department's request for information regarding separate rates by providing the requested documentation. We have determined that the evidence on the record demonstrates an absence of government control, both in law and in fact, with respect to MEI's and Sidex's exports, in accordance with the criteria identified in Sparklers from China and Silicon Carbide from China. For further information, see the memorandum, “Separate Rates in the 1998/1999 Administrative Review of Cut-to-Length Carbon Steel Plate from Romania,” dated the same date as this notice, which is on file in our Central Records Unit, room B-099 in the main Commerce building. As a result of our analysis, MEI/Sidex is entitled to a separate rate.

Export Price

We calculated the price of United States sales based on EP, in accordance with section 772(a) of the Tariff Act. We based EP on the price from MEI to its unaffiliated U.S. customer.

We calculated EP based on packed prices to unaffiliated customers in the United States. Where appropriate, we made deductions from the starting price for foreign inland freight and domestic brokerage.

MEI reported the invoice date (as kept in the ordinary course of business) as the date of sale. However, that invoice date was after the date of shipment, and under the Department's practice the date of sale cannot be after the date of shipment. See the October 15, 1999 questionnaire at I-2. Moreover, we found no evidence suggesting that the terms of sale changed after the contract date. Thus, the material terms of sale appear to have been established on the contract date. Consequently, we used the contract date as the date of sale as accordance with § 331.401(i) of the Department's regulations.

Normal Value

For merchandise exported from an NME country, section 773(c)(1) of the Tariff Act provides that the Department shall determine normal value (NV) using a factors of production method if (1) the merchandise is exported from an NME and (2) available information does not permit the calculation of NV using home market or third-country prices under section 773(a) of the Tariff Act. The Department has treated Romania as an NME country in all previous antidumping cases. See e.g., Tapered Roller Bearings and Parts Thereof from Romania: Final Results of Antidumping Administrative Review, 63 FR 36390 (July 6, 1998). In accordance with section 771(18)(C)(i) of the Tariff Act, any determination that a foreign country is an NME shall remain in effect until revoked by the administering authority. None of the parties to this proceeding has contested such treatment in this review. Moreover, parties to this proceeding have not argued that the Romanian steel industry is a market-oriented industry. Consequently, we have no basis to determine that the available information would permit the calculation of NV using Romanian prices or costs. Therefore, with the exception of raw material purchases from market-economy suppliers, we calculated NV based on factors of production in accordance with sections 773(c)(3) and (4) of the Tariff Act and § 351.408(c) of our regulations.

Under the factors of production method, we are required to value the NME producer's inputs in a comparable market economy country that is a significant producer of comparable merchandise. We determined that Indonesia is at a level of economic development comparable to that of Romania. We also found that Indonesia is a significant producer of cut-to-length carbon steel plate. Therefore, for this review, we have used Indonesian prices to value the factors of production except where the factor was purchased from a market economy supplier and paid for in a market economy currency. For a further discussion of the Department's selection of a surrogate country, see the memorandum from Jeff May to Richard O. Weible: “Cut-to-Length Carbon Steel Plate (“CLCSP”) from Romania: Nonmarket Economy Status and Surrogate Country Selection,” dated April 7, 2000.

We selected, where possible, publicly available values from Indonesia which were: (1) Average non-export values; (2) representative of a range of prices within the POR or most contemporaneous with the POR; (3) product specific; and (4) tax-exclusive. We valued the factors of production as follows:

• Raw Materials: We valued purchases of coal, iron ore fines, iron ore lumps, manganese ore, ferromanganese, and ferrovanadium using Sidex's purchase prices from market-economy suppliers. We included in our calculations Sidex's barter transactions from market-economy countries because Sidex was able to associate each shipment of finished product with a particular barter purchase of raw material input. We valued all other raw materials using U.N. Commodity Trade Statistics.

• Labor: Section 351.408(c)(3) of our regulations requires the use of a regression-based wage rate. We have used the regression-based wage rate on Import Administration's internet website at www.ia.ita.doc.gov/wages. The source for the wage rate is Yearbook of Labour Statistics 1999, International Labor Organization, (Geneva: 1999), Chapter 5B: Wages in Manufacturing.

• Energy: We valued electricity using the International Energy Agency's (IEA) Asia Electric Study (1997), and natural gas using the IEA's Asia Gas Study (1995). We valued injected coal powder using Sidex's purchase prices from market-economy suppliers. We valued all other energy inputs using U.N. Commodity Trade Statistics.

• Selling, General and Administrative Expenses (SG&A), Overhead, and Profit: We calculated SG&A, overhead, and profit based on information obtained from the 1997 annual report of PT Krakatau Steel, the largest integrated steel producer in Indonesia. From this statement we were able to calculate factory overhead as a percentage of the total cost of manufacturing (COM), SG&A as a percentage of the total COM, and the profit rate as a percentage of the COM plus SG&A. We made this financial statement part of the record in the preliminary results analysis memorandum dated the same date as this notice, a public version of which is available in the public file. We used this statement because it allowed us to calculate a more accurate ratio for overhead costs than we could if we used an alternate source suggested by petitioners, the financial statement of Jaya Pari PT (see the petitioner's May 12, 2000 submission, attachment 7).

Where any of the factor values were from years other than 1999, we applied an inflator or deflator, as appropriate, based on the consumer price index so that all factor values would approximate 1999 costs. For a complete description of the factor values used, see the preliminary results analysis memorandum.

We also made an offset, where appropriate, for byproducts sold. We valued all byproducts using U.N. Commodity Trade Statistics.

Preliminary Results of the Review

As a result of this review, we preliminarily determine that a margin of zero percent exists for sales of subject merchandise by MEI for the period August 1, 1998 through July 31, 1999. We are making the final rescission in this review with respect to Windmill International because we have determined from our review of Customs import data that it had no entries during the POR, and no parties presented contrary information.

Within five days of the date of publication of this notice, in accordance with 19 CFR 351.224, the Department will disclose its calculations. Any interested party may request a hearing within 30 days of publication. Any hearing, if requested, will be held 44 days after the date of publication, or the first working day thereafter. Interested parties may submit written comments (case briefs) no later than 30 days after the date of publication. Rebuttal comments (rebuttal briefs), which must be limited to issues raised in the case briefs, may be filed no later than 37 days after the date of publication of this notice. Parties who submit case briefs or rebuttal briefs in this proceeding are requested to submit with each argument (1) a statement of the issue and (2) a brief summary of the argument, not to exceed five pages in length. The Department will publish a notice of the final results of the administrative review, which will include the results of its analysis of issues raised by the parties, within 120 days of publication of these preliminary results.

Cash Deposit

The Department shall determine, and the U.S. Customs Service shall assess, antidumping duties on all appropriate entries. The Department will issue appraisement instructions directly to the U.S. Customs Service. The final results of this review shall be the basis for the assessment of antidumping duties on entries covered by this review and for future deposits of estimated duties. We will instruct the Customs Service to assess antidumping duties on all appropriate entries covered by this review if any assessment rate calculated in the final results of this review is above de minimis (i.e., at or above 0.5 percent) (see 19 CFR 351.106(c)(2)). For assessment purposes, if applicable, we intend to calculate an importer-specific assessment rate by aggregating the dumping margins calculated for all U.S. sales and dividing by the total quantity sold.

Furthermore, the following cash deposit requirements will be effective upon publication of the final results of this administrative review for all shipments of the subject merchandise entered, or withdrawn from warehouse, for consumption on or after the publication date, as provided for by section 751(a)(2)(C) of the Tariff Act: (1) The cash deposit rate for shipments by the reviewed firms will be the rates established in the final results of this administrative review; (2) for any previously reviewed Romanian firm and non-Romanian exporter with a separate rate, the cash deposit rate will be the company-specific rate established for the most recent period; (3) for all other Romanian exporters, the cash deposit rate will be 75.04 percent, the Romania-wide rate made effective by the final determination in the less-than-fair-value investigation (see Final Determination of Sales at Less Than Fair Value: Certain Cut-to-Length Carbon Steel Plate from Romania, 58 FR 37209 (July 9, 1993)); (4) for all other non-Romanian exporters of subject merchandise from Romania, the cash deposit rate will be the rate applicable to the Romanian supplier of that exporter.

These deposit requirements, when imposed, shall remain in effect until publication of the final results of the next administrative review.

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This administrative review and notice are in accordance with sections 751(a)(1) and 777(i)(1) of the Tariff Act.

Dated: August 30, 2000.
Troy H. Cribb,
Acting Assistant Secretary for Import Administration.

[FR Doc. 00-23004 Filed 9-6-00; 8:45 am]

BILLING CODE 3510-DS-P